DEPARTMENT OF ENERGY

Office of Energy Efficiency and Renewable Energy

Creating an Offshore Wind Industry in the United States: A National Vision

AGENCY: Office of Energy Efficiency and Renewable Energy, Department of Energy (DOE).

ACTION: Notice of public meeting and general solicitation of comments.

SUMMARY: The U.S. Department of Energy (DOE) Office of Energy Efficiency and Renewable Energy (EERE), Wind and Water Power Program, is planning a series of public events to exchange information on the development of offshore wind energy in the United States. In these events, the Program will outline the vision it has developed to guide the U.S. in creation of a world-leading offshore wind industry; focusing on ways in which the various interested sectors (i.e. academia, industry, state and local governments, the public at large) can harmonize their efforts to address barriers to deployment. During those meetings, and via emailed responses, the Program is welcoming comments from interested individuals on the draft document entitled: Creating an Offshore Wind Industry in the United States: A Strategic Work Plan for the United States Department of Energy, Fiscal Years 2011-2015, available at: http://www.windpoweringamerica.gov/pdfs/offshore/offshore_wind_strategic_plan.pdf.

DATES: Comments are welcome through October 29, 2010. Events will occur:

• September 16, 2010; Webinar held entitled Creating an Offshore Wind Industry in the United States: A National Vision and Call to Action; from DOE Offices, Washington, DC;

• September 21, 2010; Seminar entitled Creating an Offshore Wind Industry in the United States: A National Vision and Call to Action; Cleveland, Ohio;

• September 28, 2010; Seminar entitled Creating an Offshore Wind Industry in the United States: A National Vision and Call to Action; Washington, DC.

ADDRESSES: Comments may be submitted electronically to OffshoreWindComments@go.doe.gov.

FOR FURTHER INFORMATION CONTACT: Dr. Chris Hart, Offshore Wind Team Lead, Wind and Water Power Program; 1000 Independence Ave., SW.; Washington, DC 20585; chris.hart@ee.doe.gov.

SUPPLEMENTARY INFORMATION: More information on DOE's Wind and Water Power Program can be found at: http://www1.eere.energy.gov/windandhydro/

Additional information on the September 16 Webinar is available at: http://www.windpoweringamerica.gov/filter_detail.asp?itemid=2817. Information on the September 21 seminar is available at: http://www.windpoweringamerica.gov/filter_detail.asp?itemid=2819. Information on the September 28 seminar is available at: http://www.windpoweringamerica.gov/filter_detail.asp?itemid=2820.

Disclaimer

DOE will not reimburse costs associated with participation in the events described herein, or for preparing any comments on its draft documents. Participation in these activities will in no way influence any subsequent awards made by DOE under its planned Offshore Wind Initiative.

Issued in Washington, DC, on September 15, 2010.
Jacques Beaudry-Losique,
Program Manager, Wind and Water Power Program, Energy Efficiency and Renewable Energy, Department of Energy.

[FR Doc. 2010-23446 Filed 9-17-10; 8:45 am]

BILLING CODE 6450-01-P